DEPARTMENT OF HEALTH AND HUMAN SERVICES

Administration for Children and Families

Agency Recordkeeping/Reporting Requirements Under Emergency Review by the Office of Management and Budget (OMB)

Title: Survey of Administrative Costs for Children in Title IV-E Foster Care

OMB No.: New Collection.

Description: The Administration for Children and Families is requesting State child welfare agencies voluntarily to complete a survey of administrative cost claims associated with children placed in unlicensed foster family homes. This information is necessary to determine the fiscal impact of the Notice of Proposed Rulemaking on the Administrative Costs for Children in Title IV-E Foster Care published in the Federal Register on January 31, 2005 (70 FR 4803).

Respondents: State child welfare agencies.

Annual Burden Estimates
Instrument | Number of respondents | Number of responses per respondent | Average burden hours per response | Total burden hours
Survey | 52 | 1 | 9 | 468

Estimated Total Annual Burden Hours: 468 hours.

Additional Information: ACF is requesting that OMB grant a 90 day approval for this information collection under procedures for emergency processing by February 25, 2005. A copy of this information collection, with applicable supporting documentation, may be obtained by calling the Administration for Children and Families, Greta Johnson at (202) 401-9384. In addition, a request may be made by sending an e-mail request to: grjohnson@acf.hhs.gov.

Comments and questions about the information collection described above should be directed to the following address by February 25, 2005: Office of Information and Regulatory Affairs, Attn: OMB Desk Officer for ACF, Office of Management and Budget, Paperwork Reduction Project. E-mail: katherine_T._Astrich@comb.eop.gov.

Dated: February 14, 2005.
Robert Sargis,
Reports Clearance Officer.

[FR Doc. 05-3087 Filed 2-16-05; 8:45 am]

BILLING CODE 4184-01-M